DEPARTMENT OF COMMERCE

International Trade Administration

University of Chicago; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 AM and 5 PM in Suite 4100W, Franklin Court Building, U.S. Department of Commerce, 1099 14th Street, NW., Washington, DC.

Docket Number: 03-037. Applicant: University of Chicago, Chicago, IL 60637. Instrument: (19) each Pattern Trigger Modules. Manufacturer: Hytec Electronics Ltd, United Kingdom. Intended Use: See notice at 68 FR 48341, August 13, 2003.

Comments: None received. Decision: Approved. No instrument of equivalent scientific value to the foreign instrument, for such purposes as it is intended to be used, is being manufactured in the United States. Reasons: These are compatible accessories for an existing instrument purchased for the use of the applicant.

The accessories are pertinent to the intended uses and we know of no domestic accessories which can be readily adapted to the previously imported instrument.

Gerald A. Zerdy,
Program Manager, Statutory Import Programs Staff.

[FR Doc. 03-23456 Filed 9-12-03; 8:45 am]

BILLING CODE 3510-DS-P